DEPARTMENT OF TRANSPORTATION

[Docket No. PHMSA-2015-0205]

Pipeline Safety: Information Collection Activities

AGENCY: Pipeline and Hazardous Materials Safety Administration (PHMSA), DOT.

ACTION: Notice and request for comments.

SUMMARY: In accordance with the Paperwork Reduction Act of 1995, PHMSA invites comments on proposed revisions to the following incident and accident report forms and associated instructions currently under OMB Control No. 2137-0522:

• PHMSA F 7100.1 Incident Report—Gas Distribution System.

• PHMSA F 7100.2 Incident Report—Natural and Other Gas Transmission and Gathering Pipeline Systems.

• PHMSA F 7100.3 Incident Report—Liquefied Natural Gas (LNG) Facilities.

PHMSA also intends to request a new Office of Management and Budget (OMB) Control Number to cover the collection of these forms.

PHMSA also proposes revisions be made to the following form currently under OMB Control No. 2137-0047; Accident Report—Hazardous Liquid Pipeline Systems.

DATES: Interested persons are invited to submit comments on or before July 12, 2016.

ADDRESSES: Comments may be submitted in the following ways:

E-Gov Web site: http://www.regulations.gov. This site allows the public to enter comments on any Federal Register notice issued by any agency.

Fax: 1-202-493-2251.

Mail: Docket Management Facility; U.S. Department of Transportation (DOT), 1200 New Jersey Avenue SE., West Building, Room W12-140, Washington, DC 20590-0001.

Hand Delivery: Room W12-140 on the ground level of DOT, West Building, 1200 New Jersey Avenue SE., Washington, DC, between 9:00 a.m. and 5:00 p.m., Monday through Friday, except Federal holidays.

Instructions: Identify the docket number, PHMSA-2015-0205 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit http://www.regulations.gov before submitting any such comments.

Docket: For access to the docket or to read background documents or comments, go to http://www.regulations.gov at any time or to Room W12-140 on the ground level of DOT, West Building, 1200 New Jersey Avenue SE., Washington, DC, between 9:00 a.m. and 5:00 p.m., Monday through Friday, except Federal holidays. If you wish to receive confirmation of receipt of your written comments, please include a self-addressed, stamped postcard with the following statement: “Comments on: PHMSA-2015-0205.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

FOR FURTHER INFORMATION CONTACT: Angela Dow by telephone at 202-366-1246, by email at Angela.Dow@dot.gov, by fax at 202-366-4566, or by mail at DOT, PHMSA, 1200 New Jersey Avenue SE., PHP-30, Washington, DC 20590-0001.

SUPPLEMENTARY INFORMATION:

I. Background

Section 1320.8(d), Title 5, Code of Federal Regulations, requires PHMSA to provide interested members of the public and affected entities an opportunity to comment on information collection and recordkeeping requests. This notice identifies proposed changes to information collections that PHMSA will submit to OMB for approval. In order to streamline and improve the data collection processes, PHMSA is revising the incident report forms for both hazardous liquid and natural gas operators.

OMB Control Number 2137-0047, which covers the collection of hazardous liquid incident data, expires on December 31, 2016. OMB Control Number 2137-0522, which currently covers the collection of both annual report and incident data for natural gas operators, expires on October 31, 2017. To simplify the renewal process of these data collections in the future, PHMSA proposes collecting incident and annual reports under separate OMB control numbers. To achieve this, PHMSA plans to request a new OMB control number for the three gas incident forms currently under OMB Control No. 2137-0522. The remaining reports under this information collection, the Gas Transmission, LNG, and Mechanical Fitting Failure annual reports will remain under their current OMB control number.

A. PHMSA F 7100.1 Incident Report—Gas Distribution System

PHMSA proposes to reorganize the existing questions and add more detailed questions about incident response, incident consequences, operating conditions, cause, and contributing factors.

1. Time Zone and Daylight Savings

PHMSA proposes adding the time zone and daylight savings status at the location and time of the incident. This data would help PHMSA correlate our incident investigation findings with the form.

2. Remove “Incident Resulted From” Question

PHMSA proposes removing the question which prompts operators to characterize an incident as an unintentional release, intentional release, or no release. The data we collect on the form is sufficient to answer this question. This change would reduce redundancies on the form.

3. Volume Released

PHMSA proposes dividing reports of volume released into categories of “unintentional” and “intentional”. During incident response, operators often intentionally release gas from the pipeline system to reduce the pressure remaining within the pipeline. This change would allow stakeholders to understand the volume released both before and after the operator begins responding to the incident.

4. Part A Reorganization and Detailed Questions About Incident Response

PHMSA proposes reorganizing the existing questions to reflect the sequence of operator actions and events that take place during an incident response. For example, the manner in which an operator first learns of a pipeline failure is currently collected in Part E. PHMSA proposes to move this item to Part A. PHMSA also proposes to add new data fields to help build a complete timeline of events. This includes adding fields to collect data on operators' interactions with emergency responders and details about ignition. This data would help stakeholders develop a more thorough understanding of the incident.

5. Multiple National Response Center Reports

The vast majority of pipeline incidents have only one National Response Center (NRC) report. However, during a response to protracted incidents, pipeline operators may submit multiple reports to the NRC. In these rare instances, PHMSA proposes to collect each NRC report number. This change would help PHMSA ensure that our incident report data correlates with our incident investigation findings.

6. Flow Control Instead of Shutdown

PHMSA proposes removing questions about a pipeline shutdown and adding a question about methods of flow control. Gas distribution systems are typically the only source of gas to customers. Rather than shutting down gas distribution systems, pipeline operators typically control the flow of gas in the smallest possible portion of the system. This change would allow stakeholders to understand the actions taken by the operator to control the flow of gas during incident response.

7. Area of Incident Selections

PHMSA proposes adding “exposed due to loss of cover” as an option to describe the area of an incident when “underground” is selected. For pipelines installed underground and eventually exposed, the current form is not clear about whether “underground” or “above ground” should be selected. Adding “exposed due to loss of cover” as an underground option will clarify how to report the incident. This change would improve the consistency of reports.

8. Other Underground Facilities

PHMSA proposes adding a question to determine whether other underground facilities are found within twelve inches of the failure location. We know from experience that other underground facilities can damage pipeline systems. The most common cause of this damage is electrical arcing from electric facilities to gas systems. Generally, twelve inches of underground separation is considered adequate to prevent damage from non-pipeline facilities. This change would allow stakeholders to verify if twelve inches of separation is adequate.

9. Water Crossing Details

PHMSA proposes to collect additional data regarding water crossings. This data would help stakeholders understand the failure location along the crossing.

10. Part of System and Age of Failed Item

PHMSA proposes to modify the selections used to describe the part of the system responsible for a pipeline failure. These modifications would reduce the number of times “other” is selected and allow a more meaningful analysis of the data.

PHMSA also proposes collecting both the date of manufacture and the date of installation for the failed item. This would allow stakeholders to understand both the age of the failed item and how long it had been in service.

11. Service Line Excess Flow and Shut-Off Valves

PHMSA proposes adding questions about Excess Flow Valves (EFV) and shut-off valves when the failure occurs on the service line. Our regulations require EFVs in certain circumstances and shut-off valves on all service lines. The collection of this data would help PHMSA address the requirements in Section 22 of the Pipeline Safety, Regulatory Certainty, and Job Creation Act of 2011 (Pub. L. 112-90) which requires EFVs on service lines serving a single-family residence. It would also help to implement the National Transportation Safety Board's (NTSB) recommendation P-01-2 which urges the installation of EFVs on branch services, multi-family facility services, and small commercial facility services. The proposed change would help stakeholders determine if EFV requirements are adequate and effective.

12. Cost of Gas

PHMSA proposes to collect the cost of gas per million standard cubic feet (mcf) in order to calculate the cost of gas released. Currently, the form collects the volume of gas released and the cost of the gas released. The cost per mcf in our current incident data ranges from cents to hundreds of dollars. By providing the gas cost per mcf, operators will achieve greater accuracy when converting the per mcf gas cost to released gas costs.

13. Details About Consequences

Our departmental guidelines for determining the benefit of proposed regulations (http://www.transportation.gov/sites/dot.dev/files/docs/VSL%20Guidance%202013.pdf) includes a table of relative values based on injury severity. Our forms currently collect the number of injured persons requiring in-patient, overnight hospitalization. We propose adding two less severe categories to the forms. This data would enable a more thorough determination of the benefits of proposed regulations.

We are proposing to collect the volume of product consumed by fire. We already collect data about the volume of product released and whether ignition occurred. However, we cannot identify the volume of product burned. This data would allow us to more accurately determine the social cost of carbon and benefit of proposed regulations.

We are proposing to collect the number of buildings affected by the incident. On the current forms, the property damage values do not include any details about the type of property damaged. This data would provide more details about the consequences of the incident and enable a more thorough determination of the benefit of proposed regulations.

We propose collecting data about the length of building evacuations. On the current form, we collect the number of persons evacuated from buildings. To implement DOT guidelines (http://www.transportation.gov/office-policy/transportation-policy/guidance-value-time) on the value of time, we need to know the length of the evacuation. This data would enable a more thorough determination of the benefit of proposed regulations.

14. Method and Date of Establishing Maximum Pressure

We propose adding the method used by the operator to establish the maximum pressure for the pipeline system. We also propose adding the date the maximum pressure was established. This data would help stakeholders determine the maximum pressure methods posing a greater risk and if the risk changes over time.

15. Odorization

We propose adding questions about the odorization of the gas. This change would help PHMSA correlate our incident investigation findings with the form.

16. External Corrosion and Stray Current

We propose collecting additional details when stray current is the cause of external corrosion. We have also clarified the conditions under which external corrosion cathodic protection is expected. This data would help stakeholders better understand the cause of external corrosion.

17. Natural Force Damage Additional Sub-Causes

We propose adding snow/ice and tree root damage as sub-causes in the natural force damage cause category. This addition would reduce the number of incidents reported with a cause of “other.”

18. Excavation Details for All Excavation Damage

In the current form, when a third party causes the excavation damage, we collect details about the excavation work. We propose collecting details about the excavation work when the cause of the damage is first, second, or third party. When pipeline operator employees are excavating and damage their own pipeline, the damage is considered first party. When an excavator is working under contract for the pipeline operator and damages the operator's pipeline, they are considered a second party. First and second party excavation details would allow stakeholders to understand the type of excavation work being performed by any party causing the excavation damage.

19. State Damage Prevention Law Exemptions

We propose adding data about exemptions from state damage prevention laws when the cause of the incident is excavation damage. This data would help stakeholders determine states in which damage prevention law exemptions may be leading to more frequent excavation damage of pipelines.

20. Other Outside Force Damage Additional Sub-Cause

We propose adding “erosion of support due to other utilities” as a sub-cause in the other outside force damage cause category. This addition would reduce the number of incidents reported with a cause of “other.”

21. Vehicular Damage Additional Details

We propose collecting details about driver performance and protection from damage when the cause is identified as “damage by car, truck, or other motorized vehicle/equipment not engaged in excavation.” These questions will not include personally identifiable information or anything that violates the privacy of the driver. PHMSA will request information such as whether the driver violated state or local driving laws, whether they were in control of the vehicle at the time of the collision, and the estimated speed at time of collision. “Unknown” will be allowed for all driver performance questions.

Often times, the narrative section of these incident reports mentions reckless or intoxicated drivers. By adding questions about driver performance and protective barriers, stakeholders can discern incidents that could have been prevented by the operator and incidents where the driver's performance may have been a factor.

22. Overhaul Mechanical and Compression Fittings

We propose combining “mechanical fitting” and “compression fitting” sub-causes into a single sub-cause and collecting additional details. We are combining the sub-causes because compression fittings are a type of mechanical fitting. When a mechanical fitting fails and causes a hazardous leak, operators are required submit form PHMSA F 7100.1-2—MECHANICAL FITTING FAILURE REPORT FORM FOR CALENDAR YEAR 20___ FOR DISTRIBUTION OPERATORS. We modified the incident report to collect the same data collected for hazardous leaks on PHMSA F 7100.1-2. This change would ensure consistency between data for hazardous leaks and incidents when a joint formed by a mechanical fitting fails.

23. Valve Material

We propose adding a question for the valve material when a valve is the sub-cause. This change would allow stakeholders to assess the risk posed by various valve materials.

24. Contributing Factors

Pipeline operators currently select only one cause on the form. Factors contributing to, but not causing an incident are often relevant to preventing future incidents. We propose collecting data about contributing factors. The proposal is similar to a recommendation made by the NTSB in their January 2015 safety study report “Integrity Management of Gas Transmission Pipelines in High Consequence Areas” (http://www.ntsb.gov/safety/safety-studies/Documents/SS1501.pdf). The NTSB recommended revising the gas transmission incident form to collect multiple root causes. We are proposing to collect contributing factors in addition to the apparent cause on all four forms. This data would help stakeholders develop a more thorough understanding of the incident and ways to prevent future incidents.

B. PHMSA F 7100.2 Incident Report—Natural and Other Gas Transmission and Gathering Pipeline Systems

PHMSA proposes to reorganize existing questions and add more detailed questions about gas transmission pipeline incident response, incident consequences, operating conditions, cause, and contributing factors. Many of these changes are similar to those proposed for gas distribution pipelines in section A above.

1. Change Form Name

We propose shortening the name of the form to “Incident Report—Gas Transmission and Gathering Systems”. This change would remove extraneous words from the form name.

2. Time Zone and Daylight Savings

We propose adding the time zone and daylight savings status at the location and time of the incident. This data would help PHMSA correlate our incident investigation findings with the form.

3. Remove “incident resulted from”

We propose removing the question characterizing the incident as unintentional release, intentional release, or no release. We collect adequate data on the form to answer this question. This change would eliminate a redundant question from the form.

4. Operational Status

We propose collecting the operational status of the pipeline system at the time the operator identified the failure. On the current form, there is an assumption that the pipeline was in service at the time the operator identified the failure, but this is often not true. This change would help stakeholders understand the status of the pipeline and clarify the shutdown data.

5. Part A Reorganization and Detailed Questions About Incident Response

We reorganized existing questions to display the sequence of operator actions and interactions as the incident proceeds. For example, how the operator first learned of the pipeline failure is currently collected in Part E. PHMSA proposes to move this item to Part A. New items being added to build a complete timeline include interactions with emergency responders and details about ignition. This data would help stakeholders develop a more thorough understanding of the incident.

6. Multiple NRC Reports

The vast majority of pipeline incidents have only one NRC report. During response to protracted incidents, pipeline operators may submit multiple reports to the NRC. In these rare instances, we are proposing to collect each NRC report number. This change would help PHMSA correlate our incident investigation findings with the form.

7. Flow Control and Valve Closures

We propose adding questions about initial actions the operator took to control the flow of product to the failure location. When valves are used, we propose collecting the date and time of the valve closure. This change implements a GAO recommendation from GAO-13-168, “Pipeline Safety: Better Data and Guidance Needed to Improve Pipeline Operator Incident Response.” This change would allow stakeholders to understand the actions taken by the operator to control the flow of gas during incident response and collect data about the elapsed time to valve closure.

8. Area of Incident Selections

We propose adding “exposed due to loss of cover” as a selection for the area of incident when underground is selected. For pipelines installed underground and eventually exposed, the current form is not clear about whether underground or above ground should be selected. Adding “exposed due to loss of cover” as an underground option clarifies how to report the incident. This change would improve the consistency of reports.

9. Other Underground Facilities

We propose adding a question for whether other underground facilities are found within 12 inches of the failure location. We know from experience that other underground facilities can damage pipeline systems. The most common cause is electrical arcing from electric facilities to gas systems. Generally, 12 inches of underground separation is considered adequate to prevent damage from non-pipeline facilities. This change would allow stakeholders to verify if 12 inches of separation is adequate.

10. Outer Continental Shelf Regions

We propose collecting the Outer Continental Shelf (OCS) region when an incident occurs on the OCS. This change would provide stakeholders with a more precise location of the incident.

11. Item Involved and Age of Failed Item

We propose modifying the selections for the item that failed. We also propose collecting data about plastic pipe, which is quite common in gas gathering systems. These modifications would reduce the number of times “other” is selected and allow a more meaningful analysis of the data.

We propose collecting both the date of manufacture and the date of installation for the failed item. This would allow stakeholders to understand both the age of the failed item and how long it had been in service.

12. Additional Integrity Management Consequences

We propose adding a description of the cause of fatality or injury outside of the Potential Impact Radius (PIR) and impacts to wildlife when ignition occurs. Harm to people outside of a PIR is an important safety issue, and the new question will collect a text description of the cause. The cause of fatality or injury outside the PIR could help stakeholders determine if the PIR concept is suitable for continued use. The value of burnt wildlife habitat is important in calculating the benefit of proposed regulations.

13. Cost of Gas

We propose collecting the cost of gas per mcf and calculating the cost of gas released. Currently, the form collects the volume of gas released and the cost of the gas released. The cost per mcf in our current incident data ranges from cents to hundreds of dollars. By providing the gas cost per mcf, operators will achieve greater accuracy when converting the per mcf gas cost to released gas costs.

14. Details About Consequences

Our departmental guidelines for determining the benefit of proposed regulations (http://www.transportation.gov/sites/dot.dev/files/docs/VSL%20Guidance%202013.pdf) includes a table of relative values based on injury severity. Our forms currently collect the number of injured persons requiring in-patient, overnight hospitalization. We propose adding two less severe categories to the forms. This data would enable a more thorough determination of the benefit of proposed regulations.

We are proposing to collect the volume of product consumed by fire. We already collect data about the volume of product released and whether ignition occurred. However, we cannot identify the volume of product burned. This data would allow us to more accurately determine the social cost of carbon and benefit of proposed regulations.

We are proposing to collect the number of buildings affected by the incident. On the current forms, the property damage values do not include any details about the type of property damaged. This data would provide more details about the consequences of the incident and enable a more thorough determination of the benefit of proposed regulations.

We propose collecting data about the length of building evacuations. On the current form, we collect the number of person evacuated from buildings. To implement DOT guidelines (http://www.transportation.gov/office-policy/transportation-policy/guidance-value-time) on the value of time, we need to know the length of the evacuation. This data would enable a more thorough determination of the benefit of proposed regulations.

15. Gas Flow Rate

We propose adding the gas flow rate at the point and time of the incident. This change would help stakeholders better understand the operating conditions at the time of the failure.

16. Date of Establishing Maximum Pressure and Flow Reversals

We propose adding the date the operator established the maximum pressure for the pipeline system. We also propose adding a question about flow reversals. This data would help stakeholders have a better understanding of the maximum pressure determination method and whether a flow reversal may have invalidated the maximum pressure.

17. Odorization

We propose adding a question about whether the gas was odorized. This change would help stakeholders understand if people near the failure location should have been able to smell the escaping gas.

18. Length of Segment Isolated

We propose modifying the question about the length of pipeline isolated during incident response. In the current form, an assumption is made that valve closures will always be used to initially control flow to the failure location. This change would clarify the length to be reported when valves are not used to initially control flow to the failure location.

19. Function Choice Change

If a gas transmission failure occurs on a pipeline within a storage field, the current instructions are to select “storage gathering” as the function. Since this question first appeared in 2010, both operators submitting reports and analysts using our data have assumed “storage gathering” is a type of gas gathering, not gas transmission. To ensure this data is used for reports and analysis on systems having a transmission function, not gathering reports and analysis, we propose renaming this function from “storage gathering” to “transmission in storage field.” PHMSA also intends to apply this re-designation to the data collected in all reports submitted since 1/1/2010, This would facilitate the proper flow of data through to PHMSA's public displays and data downloads. This change would help improve the accuracy of both gathering and transmission reports and analysis since the data will better correspond to the function of the pipeline system.

20. External Corrosion and Stray Current

We propose collecting additional details when stray current is the cause of external corrosion. We have also clarified the conditions under which external corrosion cathodic protection is expected. This data would help stakeholders better understand the cause of external corrosion.

21. Natural Force Damage Additional Sub-Cause

We propose adding tree root damage as a sub-cause in the natural force damage cause category. This addition would reduce the number of incidents reported with a cause of “other.”

22. Excavation Details for All Excavation Damage

In the current form, when a third party causes the excavation damage, we collect details about the excavation work. We propose collecting details about the excavation work when the cause of the damage is first, second, or third party. When pipeline operator employees are excavating and damage their own pipeline, the damage is considered first party. When an excavator is working under contract for the pipeline operator and damages the operator's pipeline, they are considered a second party. First and second party excavation details would allow stakeholders to understand the type of excavation work being performed by any party causing the excavation damage.

23. State Damage Prevention Law Exemptions

We propose adding data about exemptions from state damage prevention laws when the cause of the incident is excavation damage. This data would help stakeholders determine states in which damage prevention law exemptions may be leading to more frequent excavation damage of pipelines.

24. Vehicular Damage Additional Details

We propose collecting details about driver performance and protection from damage when the cause is identified as “damage by car, truck, or other motorized vehicle/equipment not engaged in excavation.” These questions will not include personally identifiable information or anything that violates the privacy of the driver. PHMSA will request information such as whether the driver violated state or local driving laws, whether they were in control of the vehicle at the time of the collision, and the estimated speed at time of collision. “Unknown” will be allowed for all driver performance questions.

Often times, the narrative section of these incident reports mention reckless or intoxicated drivers. By adding questions about driver performance and protective barriers, stakeholders can discern incidents that could have been prevented by the operator and incidents where the driver's performance may have been a factor.

25. Material Failure Cause Changes

When material failure of pipe or weld causes the incident, a sub-cause must be chosen. Errors in the design of pipeline facilities cause some incidents, but design is not included in any sub-cause. We propose adding a design to the “Construction-, Installation-, or Fabrication-related” sub-cause. This change would reduce the number of reports with cause of “other.”

We propose adding another environmental cracking option, “hard spot.” This is another type of environmental cracking that should be available for selection. This change would reduce the number of reports with cause of “other.”

We propose adding a question to collect the post-construction pressure test value. When the pipe or a weld fails, the value of the post-construction pressure test is important to determining if the cause of the failure might have been present since original construction. This change would provide additional data to diagnose the cause of the pipe or weld failure.

26. Additional Integrity Inspection Data

In the current form, the same set of integrity inspection questions appear in four different cause sections. Only one cause can be selected so three sets of these questions are redundant. We propose having the questions appear once. For each report submitted since January 1, 2010, PHMSA would modify the database to have the questions appear only once. This change would simplify the form by reducing the number of distinct data fields.

We propose collecting two sets of in-line inspection results. Under PHMSA regulations, operators are conducting a second round of integrity inspections. This change would provide a history of in-line inspections rather than just the most recent. The additional inspection data may provide insights about the effectiveness of the various types of in-line inspections.

We propose collecting the type of direct assessment when this inspection method has been implemented. The additional inspection data may provide insights about the effectiveness of the various types of direct assessments.

27. Contributing Factors

Pipeline operators currently select only one cause on the form. Factors contributing to, but not causing an incident are often relevant to preventing future incidents. We propose collecting data about contributing factors. The proposal is similar to a recommendation made by NTSB in their January 2015 safety study report. NTSB recommended revising the Gas Transmission/Gas Gathering Form to collect multiple root causes. We are proposing to collect contributing factors in addition to the apparent cause on all four forms. This data would help stakeholders develop a more thorough understanding of the incident and ways to prevent future incidents.

C. PHMSA F 7100.3 Incident Report—Liquefied Natural Gas (LNG) Facilities

PHMSA proposes to add more detailed questions about LNG incidents and their consequences.

1. Multiple NRC Reports

The vast majority of pipeline incidents have only one NRC report. During response to protracted incidents, pipeline operators may submit multiple reports to the NRC. In these rare instances, we are proposing to collect each NRC report number. This change would help PHMSA correlate our incident investigation findings with the form.

2. Details About Consequences

Our departmental guidelines for determining the benefit of proposed regulations (http://www.transportation.gov/sites/dot.dev/files/docs/VSL%20Guidance%202013.pdf) includes a table of relative values based on injury severity. Our forms currently collect the number of injured persons requiring in-patient, overnight hospitalization. We propose adding two less severe categories to the forms. This data would enable a more thorough determination of the benefit of proposed regulations.

We are proposing to collect the volume of product consumed by fire. We already collect data about the volume of product released and whether ignition occurred. However, we cannot identify the volume of product burned. This data would allow us to more accurately determine the social cost of carbon and benefit of proposed regulations.

We are proposing to collect the number of buildings affected by the incident. On the current forms, the property damage values do not include any details about the type of property damaged. This data would provide more details about the consequences of the incident and enable a more thorough determination of the benefit of proposed regulations.

We propose collecting data about the length of building evacuations. On the current form, we collect the number of persons evacuated from buildings. To implement DOT guidelines (http://www.transportation.gov/office-policy/transportation-policy/guidance-value-time) on the value of time, we need to know the length of the evacuation. This data would enable a more thorough determination of the benefit of proposed regulations.

3. Contributing Factors

Pipeline operators currently select only one cause on the form. Factors contributing to, but not causing an incident are often relevant to preventing future incidents. We propose collecting data about contributing factors. The proposal is similar to a recommendation made by NTSB in their January 2015 safety study report. The NTSB recommended revising the GT/GG Form to collect multiple root causes. We are proposing to collect contributing factors in addition to the apparent cause on all four forms. This data would help stakeholders develop a more thorough understanding of the incident and ways to prevent future incidents.

D. PHMSA F 7000-1 Accident Report—Hazardous Liquid Pipeline Systems

PHMSA proposes to reorganize existing questions and add more detailed questions about incident response, incident consequences, operating conditions, cause, and contributing factors.

1. Change Form Name

We propose changing the name of the form to “Accident Report—Hazardous Liquid and Carbon Dioxide Systems.” This change more accurately describes the types of pipelines using the form.

2. Time Zone and Daylight Savings

We propose adding the time zone and daylight savings status at the location and time of the incident. This data would help PHMSA correlate our incident investigation findings with the form.

3. Operational Status

We propose collecting the operational status of the pipeline system at the time the operator identified the failure. On the current form, there is an assumption that the pipeline was in service at the time the operator identified the failure, but this is often not true. This change would help stakeholders understand the status of the pipeline and clarify the shutdown data.

4. Part A Reorganization and Detailed Questions About Incident Response

We reorganized existing questions to display the sequence of operator actions and interactions as the incident proceeds. For example, how the operator first learned of the pipeline failure is currently collected in Part E. PHMSA proposes to move this item to Part A. New items being added to build a complete timeline include interactions with emergency responders, spill response resources, and details about ignition. This data would help stakeholders develop a more thorough understanding of the incident.

5. Multiple NRC Reports

The vast majority of pipeline incidents have only one NRC report. During response to protracted incidents, pipeline operators may submit multiple reports to the NRC. In these rare instances, we are proposing to collect each NRC report number. This change would help PHMSA correlate our incident investigation findings with the form.

6. Flow Control and Valve Closures

We propose adding questions about initial actions the operator took to control the flow of product to the failure location. When valves are used, we propose collecting the date and time of the valve closure. This change implements a GAO recommendation from GAO-13-168 “Pipeline Safety: Better Data and Guidance needed to Improve Pipeline Operator Incident Response.” This change would allow stakeholders to understand the actions taken by the operator to control the flow of gas during incident response and collect data about the elapsed time to valve closure.

7. Area of Incident Selections

We propose adding “exposed due to loss of cover” as a selection for the area of incident when underground is selected. For pipelines installed underground and eventually exposed, the current form is not clear about whether underground or above ground should be selected. Adding “exposed due to loss of cover” as an underground option clarifies how to report the incident. This change would improve the consistency of reports.

8. Water Crossing Evaluation

We propose adding a question to collect the date of the most recent evaluation of the water crossing. These evaluations can provide information critical to protecting the integrity of water crossings. This change would provide stakeholders with this critical information.

9. OCS Regions

We propose collecting the OCS region when an incident occurs on the OCS. This change would provide stakeholders with a more precise location of the incident.

10. Item Involved and Age of Failed Item

We propose modifying the selections for the item that failed. These modifications would reduce the number of times “other” is selected and allow a more meaningful analysis of the data.

We propose collecting both the date of manufacture and the date of installation for the failed item. This would allow stakeholders to understand both the age of the failed item and how long it had been in service.

11. Volume of Soil

We propose adding a question for the volume of contaminated soil. The amount of soil contaminated provides an indication of the spread of the liquid product.

12. Details About Consequences

Our departmental guidelines for determining the benefit of proposed regulations (http://www.transportation.gov/sites/dot.dev/files/docs/VSL%20Guidance%202013.pdf) includes a table of relative values based on injury severity. Our forms currently collect the number of injured persons requiring in-patient, overnight hospitalization. We propose adding two less-severe categories to the forms. This data would enable a more thorough determination of the benefit of proposed regulations.

We are proposing to collect the volume of product consumed by fire. We already collect data about the volume of product released and whether ignition occurred. However, we cannot identify the volume of product burned. This data would allow us to more accurately determine the social cost of carbon and benefit of proposed regulations.

We are proposing to collect the number of buildings affected by the incident. On the current forms, the property damage values do not include any details about the type of property damaged. This data would provide more details about the consequences of the incident and enable a more thorough determination of the benefit of proposed regulations.

We propose collecting data about the length of building evacuations. On the current form, we collect the number of persons evacuated from buildings. To implement DOT guidelines (http://www.transportation.gov/office-policy/transportation-policy/guidance-value-time) on the value of time, we need to know the length of the evacuation. This data would enable a more thorough determination of the benefit of proposed regulations.

13. Establishing Maximum Pressure and Flow Reversals

We propose adding the method used by the operator to establish the maximum pressure for the pipeline system. We also propose adding the date the maximum pressure was established. This data would help stakeholders determine the maximum pressure methods posing a greater risk and if the risk changes over time.

We also propose adding a question about flow reversals. This data would help stakeholders have a better understanding of whether a flow reversal may have invalidated the maximum pressure.

14. Length of Segment Isolated

We propose modifying the question about the length of pipeline isolated during incident response. In the current form, an assumption is made that valve closures will always be used to initially control flow to the failure location. This change would clarify the length to be reported when valves are not used to initially control flow to the failure location.

15. External Corrosion and Stray Current

We propose collecting additional details when stray current is the cause of external corrosion. We have also clarified the conditions under which external corrosion cathodic protection is expected. This data would help stakeholders better understand the cause of external corrosion.

16. Natural Force Damage Additional Sub-Cause

We propose adding tree root damage as a sub-cause in the natural force damage cause category. This addition would reduce the number of incidents reported with a cause of “other.”

17. Excavation Details for All Excavation Damage

In the current form, when a third party causes the excavation damage, we collect details about the excavation work. We propose collecting details about the excavation work when the cause of the damage is first, second, or third party. When pipeline operator employees are excavating and damage their own pipeline, the damage is considered first party. When an excavator is working under contract for the pipeline operator and damages the operator's pipeline, they are considered a second party. First and second party excavation details would allow stakeholders to understand the type of excavation work being performed by any party causing the excavation damage.

18. State Damage Prevention Law Exemptions

We propose adding data about exemptions from state damage prevention laws when the cause of the incident is excavation damage. This data would help stakeholders determine states in which damage prevention law exemptions may be leading to more frequent excavation damage of pipelines.

19. Material Failure Cause Changes

When material failure of pipe or weld causes the incident, a sub-cause must be chosen. Errors in the design of pipeline facilities cause some incidents, but design is not included in any sub-cause. We propose adding a design to the “Construction-, Installation-, or Fabrication-related” sub-cause. This change would reduce the number of reports with cause of “other.”

We propose adding another environmental cracking option, “hard spot”. This is another type of environmental cracking that should be available for selection. This change would reduce the number of reports with cause of “other.”

We propose adding a question to collect the post-construction pressure test value. When the pipe or a weld fails, the value is the post-construction pressure test is important in determining if the cause of the failure might have been present since original construction. This change would provide additional data to diagnose the cause of the pipe or weld failure.

20. Vehicular Damage Additional Details

We propose collecting details about driver performance and protection from damage when the cause is identified as “damage by car, truck, or other motorized vehicle/equipment not engaged in excavation.” These questions will not include personally identifiable information or anything that violates the privacy of the driver. PHMSA will request information such as whether the driver violated state or local driving laws, whether they were in control of the vehicle at the time of the collision, and the estimated speed at time of collision. “Unknown” will be allowed for all driver performance questions.

Often times, the narrative section of these incident reports mention reckless or intoxicated drivers. By adding questions about driver performance and protective barriers, stakeholders can discern incidents that could have been prevented by the operator and incidents where the driver's performance may have been a factor.

21. Additional Integrity Inspection Data

In the current form, the same set of integrity inspection questions appear in four different cause sections. Only one cause can be selected, so three sets of these questions are redundant. We propose having the questions appear once. For each report submitted since January 1, 2010, PHMSA would modify the database to have the questions appear only once. This change would simplify the form by reducing the number of distinct data fields.

We propose collecting two sets of in-line inspection results. Under PHMSA regulations, operators are conducting a second round of integrity inspections. This change would provide a history of in-line inspections rather than just the most recent. The additional inspection data may provide insights about the effectiveness of the various types of inline inspections.

We propose collecting the type of direct assessment when this inspection method has been implemented. The additional inspection data may provide insights about the effectiveness of the various types of direct assessments.

22. Contributing Factors

Pipeline operators currently select only one cause on the form. Factors contributing to, but not causing an incident are often relevant to preventing future incidents. We propose collecting data about contributing factors. The proposal is similar to a recommendation made by NTSB in their January 2015 safety study report. The NTSB recommended revising the GT/GG Form to collect multiple root causes. We are proposing to collect contributing factors in addition to the apparent cause on all four forms. This data would help stakeholders develop a more thorough understanding of the incident and ways to prevent future incidents.

II. Summary of Impacted Collection

Section 1320.8(d), Title 5, Code of Federal Regulations, requires PHMSA to provide interested members of the public and affected agencies an opportunity to comment on information collection and recordkeeping requests. This notice identifies several information collection requests that PHMSA will submit to OMB for renewal. PHMSA expects many of the new data elements are already known by the operator and no report requires the completion of all fields on the forms. PHMSA has estimated the burdens below by adding 20% to the previous burdens—12 hours instead of 10.

The following information is provided for each information collection: (1) Title of the information collection; (2) OMB control number; (3) Current expiration date; (4) Type of request; (5) Abstract of the information collection activity; (6) Description of affected public; (7) Estimate of total annual reporting and recordkeeping burden; and (8) Frequency of collection. PHMSA will request a three-year term of approval for each information collection activity. PHMSA requests comments on the following information collections:

1. Title: Incident Reporting for Gas and LNG.

OMB Control Number: PHMSA will request from OMB.

Current Expiration Date: N/A.

Type of Request: Approval of a new collection.

Abstract: PHMSA is proposing revision to the following incident report forms to improve the granularity of the data collected in several areas: Gas Distribution Incident Report (PHMSA F. 7100.1); Incident Report—Natural and Other Gas Transmission and Gathering Pipeline System (PHMSA F 7100.2); and Incident Report—Liquefied Natural Gas Facilities (PHMSA F 7100.3). PHMSA is also requesting a new OMB Control Number to collectively cover these forms.

Affected Public: Pipeline Operators.

Annual Reporting and Recordkeeping Burden:

Estimated number of responses: 301.

Estimated annual burden hours: 3,612.

Frequency of collection: On occasion.

2. Title: Transportation of Hazardous Liquids by Pipeline: Recordkeeping and Accident Reporting.

OMB Control Number: 2137-0047.

Current Expiration Date: 7/31/2015.

Type of Request: Revision.

Abstract: This information collection covers recordkeeping and accident reporting by hazardous liquid pipeline operators who are subject to 49 CFR part 195. PHMSA is proposing to revise the form PHMSA F7000-1 to improve the granularity of the data collected in several areas.

Affected Public: Hazardous liquid pipeline operators.

Annual Reporting and Recordkeeping Burden:

Annual Responses: 847.

Annual Burden Hours: 56,229.

Frequency of collection: On occasion.

Comments are invited on:

(a) The need for the renewal and revision of these collections of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC, on May 9, 2016, under authority delegated in 49 CFR 1.97.
Alan K. Mayberry,
Acting Associate Administrator for Pipeline Safety.

[FR Doc. 2016-11304 Filed 5-12-16; 8:45 am]

BILLING CODE 4910-60-P